ENVIRONMENTAL PROTECTION AGENCY

[FRL-7457-7]

A National Agenda for the Environment and the Aging: Setting Priorities for Research and Education To Address Environmental Hazards That Threaten the Health of Older Persons

AGENCY: Environmental Protection Agency (EPA).

ACTION: Notice of public listening sessions and request for comments.

SUMMARY: In October 2002 EPA launched an Aging Initiative to study the effects of environmental health hazards on older persons and examine the impact that a rapidly aging population will have on the environment. The Initiative will also identify model programs that will provide opportunities for older persons to volunteer in their communities to reduce environmental hazards and protect the environment for future generations. EPA is seeking public comment through Friday, May 16, 2003 to assure that the final agenda includes input from the broadest base of expertise including Federal, State, local and tribal governments, public and private organizations, professional health, aging and environmental associations, academia, business and volunteer organizations, and others including older Americans and their families. EPA encourages comments from all those interested in addressing environmental health hazards that affect the health of older persons.

In addition, six public listening sessions will be held this Spring to gather input for the National Agenda. The meetings are open to the public. Pre-registration is required due to the limited seating capacity at each location. When registering to attend or present comments during the public listening sessions, individuals requiring special accommodations should note their needs so that appropriate arrangements can be made. In addition, every effort will be made to ensure that non-English speaking persons can participate in public meetings and through written comments.

Public Listening Sessions

Dates:

| Registration deadline*
1. Thursday, April 3, 2003, 1:30-3:30 p.m., Tampa, FL | March 26.
2. Tuesday, April 8, 2003, 1:30-3:30 p.m., San Antonio, TX | April 1.
3. Tuesday, April 15, 2003, 1:30-3:30 p.m., Iowa City, IA | April 8.
4. Wednesday, April 23, 2003, 2-4 p.m., Pittsburgh, PA | April 16.
5. Tuesday, April 29, 2003, 1:30-3:30 p.m., Los Angeles, CA | April 22.
6. Wednesday, May 7, 2003, 1:30-3:30 p.m., Baltimore, MD | April 29.
*Pre-registration is required.

ADDRESSES:

1. Tampa Auditorium, University of South Florida College of Public Health, 13201 Bruce B. Downs Boulevard, Tampa, Florida

2. San Antonio University Auditorium, University of Texas Health Science Center at San Antonio, 7703 Floyd Curl Drive, San Antonio, Texas

3. Iowa City Second Floor Ballroom, Iowa Memorial Union, the University of Iowa, Corner of Jefferson and Madison Streets, Iowa City, Iowa

4. Pittsburgh Pennsylvania Room, First Floor, Pittsburgh Athletic Association, 4215 Fifth Avenue (Oakland area), Pittsburgh, Pennsylvania

5. Los Angeles Grand Horizon Room, 3rd Floor, Covel Commons, Sunset Village on the UCLA campus, Los Angeles, California

6. Baltimore Auditorium, School of Nursing, University of Maryland Baltimore, 655 West Lombard Street (corner of Lombard and Penn), Baltimore, Maryland

For additional information, contact Kathy Sykes, EPA's Aging Initiative Coordinator, at 202-564-2188 or by email: aging.info@epa.gov.

SUPPLEMENTARY INFORMATION: EPA's Aging Initiative is working with various partners on the development of a National Agenda on the Environment and the Aging

1. Tampa University of South Florida; West Central Florida Area Agency on Aging

2. San Antonio University of Texas Health Science Center at San Antonio; Bexar County Area Agency on Aging

3. Iowa City University of Iowa College of Public Health and The Center on Aging; The Heritage Agency

4. Pittsburgh University of Pittsburgh Graduate School of Public Health; Allegheny Area Agency on Aging

5. Los Angeles University of California Los Angeles (UCLA) Graduate School of Public Health, UCLA Center on Aging, City of Los Angeles Department of Aging; Los Angeles County Area Agency on Aging

6. Baltimore University of Maryland Baltimore School of Medicine and Center for Research on Aging, University of Maryland Baltimore School of Nursing

At the beginning of each public listening session an EPA official will describe the process that will be used to develop the National Agenda on the Environment and the Aging. Public comments will follow from pre-registered speakers who wish to contribute to the agenda by offering brief comments on one or all of the three priority areas described below. Each presentation will be limited to three minutes and the written or preferably typed statement of the comments must be provided in advance. Please fax your statement to (202) 564-2733 no later than the registration deadline for the session you have selected (see above for listing of deadlines). There is no page limitation on written comments.

If time allows, members of the audience will have an opportunity to provide comments. Pre-registration is required for attendance at each session and for providing comments due to limited seating and time. To register to attend or participate, go to http://www.epa.gov/aging and click on the “Public Listening Sessions” side bar and follow instructions to register to attend or to speak. Deadlines to pre-register for each session are provided.

National Agenda for the Environment and the Aging

Setting Priorities for Research and Education to Address Environmental Hazards That Threaten the Health of Older Persons

In October 2002 EPA launched an Aging Initiative to study the effects of environmental health hazards on older persons and examine the impact that a rapidly aging population will have on the environment. The Initiative will also identify model programs that will provide opportunities for older persons to volunteer in their communities to reduce environmental hazards and protect the environment for future generations. EPA is seeking public comment through Friday, May 16, 2003, to assure that the final agenda includes input from the broadest base of expertise including Federal, State, local, and tribal governments, public and private organizations, professional health, aging and environmental associations, academia, business and volunteer organizations, and other stakeholders, including older Americans and their families. EPA encourages comments from all those interested in contributing to the agenda. The agenda will be developed through an open, participatory process. The National Agenda will be composed of three parts:

(1) Identifying research gaps in environmental health;

(2) Preparing for an aging society; and

(3) Encouraging older adults to volunteer to address environmental hazards.

I. Identifying Research Gaps in Environmental Health

Strategy To Address Environmental Hazards That Threaten the Health of Older Persons: Research and Educational Priorities

The National Agenda for the Environment and the Aging will lay out a strategy that combines research and educational programs that promote preventive actions to address environmental health hazards. One fundamental question is: How do environmental hazards affect older persons differently from younger persons? Understanding the biology underlying differing age-related responses can inform a scientific rationale for decisions on how to appropriately incorporate the differential sensitivity of those who are aging into environmental risk assessment, decisions and actions.

EPA's effort to develop a national agenda to address environmental issues that affect the health and well-being of the nation's older persons has been advanced by a workshop on the “Differential Susceptibility and Exposure of Older Persons to Environmental Hazards” convened by the National Academy of Sciences in December 2002. At that meeting, experts discussed priority issues for the National Agenda on the Environment and the Aging. Experts focused on exposures to environmental hazards found in drinking water, indoor and outdoor air, and food residues that may have health effects including respiratory and cardiopulmonary disease, neurotoxicity, infectious disease and cancer.

EPA invites public comments on environmental hazards that may affect the health of older persons in states and local communities. Among questions which may be considered are:

• What specific environmental exposures in your community particularly affect the health of older persons?

• Which health conditions specific to older adults may increase their susceptibility to chemical toxicants?

• Which lifestyle factors of older adults may increase the exposure to environmental hazards?

• What steps may individuals and communities take to reduce the potential environmental health risks that older adults may face?

II. Preparing for an Aging Society

Impact of an Aging Population on the Environment

The EPA invites comments on the extent to which an aging population may affect the environment. The nation's demographics will have changed dramatically by 2030: the U.S. population over 65 years of age is expected to double. The largest cohort born in U.S. history (76 million Americans were born between 1946 and 1964) begins to turn 65 in 2011 and will markedly influence the quality of life for both older persons and young people. The National Agenda will focus on the interface between older persons and their environment.

As an increasing number of adults approach retirement age, migration may substantially increase to areas characterized by temperate climates, lower population and traffic density, and better environmental quality. These areas may be sparsely populated and ecologically diverse regions. To ensure harmony between the needs of this growing population and preserving important natural resources, it is important to have the tools available for regional and landscape planning. The EPA invites comments on the extent to which an aging population has unique needs with respect to housing, transportation, health care, recreation, and other quality of life issues, and how these needs may affect the environment. Issues which may be considered include:

• What can city, county and regional planners do to meet the needs of today's older adults and prepare for the anticipated increase in the number of retirees and at the same time enhance preservation of natural resources for recreation, wildlife, water, air and land quality?

• Can you identify unique resource needs and utilization patterns of older adults that may generate novel ecological pressures?

• What steps can individual baby boomers and older adults take to not only reduce potential hazards to the environment but also preserve and enhance the quality of the environment for themselves and future generations?

III. Encouraging Older Adults to Volunteer to Reduce Environmental Hazards

Opportunities for Older Persons To Enhance the Environment and Their Health

The National Agenda will not only identify strategies to protect the quality of life for older persons from environmental hazards, but also suggest ways to engage the nation's older persons in programs and strategies designed to enhance the environment for all generations.

Many older Americans contribute their time, energy and expertise to protect their environment and educate their communities about environmental hazards to citizens and threats to natural resources. The EPA intends to encourage further involvement and expand opportunities for older persons to volunteer in programs designed to lessen environmental hazards. Programs or activities that are of interest include activities that increase awareness of environmental hazards, and preserve the quality of the environment for today and tomorrow's citizens. The EPA welcomes comments on encouraging older adults to volunteer to reduce environmental hazards in their communities. Among the questions to which the EPA invites comments are the following:

• Which volunteer programs that address environmental hazards in your community warrant examination for possible replication in other communities?

• What incentives are needed to encourage older persons to volunteer their time and ideas to protect the environment, reduce environmental hazards and enhance the health of and the environment for people of all ages?

• In an effort to raise awareness of environmental factors important to all citizens, how can older persons serve as models of good practice and mentors for younger generations about environmental hazards found in the community?

• In your community or state, what intergenerational environmental projects have been successful in improving the health of children or older persons?

• What potential barriers exist to volunteering in your community to reduce environmental hazards?

Public comments will be accepted until Friday, May 16, 2003.

(1) To pre-register to attend or speak at a public listening session, please go to EPA's Aging Initiative Web site: http://www.epa.gov/aging.

(2) To submit written comments, please send them by mail or hand deliver to: EPA's Aging Initiative, Mail Code 1107A, 1200 Pennsylvania Avenue, NW., Room 2512 Ariel Rios North, Washington, DC 20460, or

(3) Fax comments to: National Agenda for the Environment and the Aging (202) 564-2733, or

(4) E-mail comments to: aging.info@epa.gov.

Dated: February 26, 2003.
Joanne Rodman,
Acting Director, Office of Children's Health Protection.

[FR Doc. 03-5031 Filed 3-3-03; 8:45 am]

BILLING CODE 6560-50-P